DEPARTMENT OF TRANSPORTATION

Federal Aviation Administration

14 CFR Part 39

[Docket No. FAA-2011-1115; Directorate Identifier 2010-SW-011-AD]

RIN 2120-AA64

Airworthiness Directives; Sikorsky Aircraft Corporation (Sikorsky) Model S-92A Helicopters

AGENCY: Federal Aviation Administration, DOT.

ACTION: Notice of proposed rulemaking (NPRM).

SUMMARY: This document proposes adopting a new airworthiness directive (AD) for the Sikorsky Model S-92A helicopters. This proposal would require revising the Operating Limitations section of the Sikorsky Model S-92A Rotorcraft Flight Manual (RFM). This proposal is prompted by the manufacturer's analysis of engine data that revealed the data was inaccurate in dealing with available above specification engine power margin. The actions specified by this proposed AD are intended to prevent the use of inaccurate engine performance data in calculating maximum gross weight by revising the Operating Limitations section of the RFM.

DATES: Comments must be received on or before December 27, 2011.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

FOR FURTHER INFORMATION CONTACT: John Coffey, Aviation Safety Engineer, Boston Aircraft Certification Office, 12 New England Executive Park, Burlington, MA 01803, telephone (781) 238-7173, fax (781) 238-7170.

SUPPLEMENTARY INFORMATION:

Comments Invited

We invite you to submit any written data, views, or arguments regarding this proposed AD. Send your comments to the address listed under the caption ADDRESSES. Include the docket number “FAA-2011-1115, Directorate Identifier 2010-SW-011-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket web site, you can find and read the comments to any of our dockets, including the name of the individual who sent or signed the comment. You may review the DOT's complete Privacy Act Statement in the Federal Register published on April 11, 2000 (65 FR 19477-78).

Examining the Docket

You may examine the docket that contains the proposed AD, any comments, and other information on the Internet at http://www.regulations.gov or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for the Sikorsky Model S-92A helicopters. This proposal would require revising the Operating Limitations section, Part 1, Section 1, Weight Limits, of the Sikorsky Model S-92A RFM with the following statement “Performance credit for above specification engine power margin is prohibited.” Engine power margin is determined through power assurance checks. Previous flight manual revisions allowed for the use of above specification engine power margin as shown in the circled area of Figure 1 of this AD. The use of above-specification engine power margin is now being prohibited. Sikorsky has published various RFM revisions correcting the charts in Parts I and IV of the RFM. If those revisions have previously been incorporated into the RFM, the RFM revision specified by this proposed AD would not be required. The RFM revisions, all dated April 9, 2008, are as follows:

Affected RFM | Revision with correct charts
S92A-RFM-002 | Revision 8.
S92A-RFM-003 | Revision 7.
S92A-RFM-004 | Revision 6.
S92A-RFM-005 | Revision 5.
S92A-RFM-006 | Revision 6.

This proposal is prompted by the manufacturer's analysis of engine data that revealed the data was inaccurate in dealing with available engine power margin. The actions specified by this proposed AD are intended to prevent the use of inaccurate performance data in calculating maximum gross weight by revising the Operating Limitations section of the RFM.

This unsafe condition is likely to exist or develop on other helicopters of the same type design. Therefore, the proposed AD would require inserting a limitation into the Operating Limitation section of the RFM prohibiting the use of power margin percentage credit in calculating gross weight and inserting the revisions into the Operating Limitations, Part 1, Section 1, of Sikorsky RFM SA S92A-RFM-002, -003, -004, -005, and -006.

We estimate that this proposed AD would affect 37 helicopters of U.S. registry, and the proposed actions would take about 1 work hour per helicopter to insert the revisions into the RFM at an average labor rate of $85 per work hour. Parts costs are not associated with this AD. Based on these figures, we estimate the total cost impact of the proposed AD on U.S. operators would be $3,145.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Sikorsky Aircraft Corporation: Docket No. FAA-2011-1115; Directorate Identifier 2010-SW-011-AD.

Applicability: Model S-92A helicopters, certificated in any category.

Compliance: Within 90 days, unless accomplished previously.

To prevent the use of inaccurate performance data in calculating the maximum gross weight, revise the Operating Limitations section of the Rotorcraft Flight Manual (RFM) as follows:

(a) By making pen and ink changes, insert into the Operating Limitations section, Part 1, Section 1, Weight Limits, of RFM SA S92A-RFM-002, -003, -004, -005, and -006 the following limitation “Performance credit for above specification engine power margin is prohibited.”

(b) If the RFM already contains the revisions appropriate for your helicopter as listed in the following Table 1, all dated April 9, 2008, with the correct performance charts, without the performance credit as depicted in the circled area of Figure 1 of this AD, the operating limitation required by paragraph (a) of this AD does not need to be inserted into the RFM.

Table 1
Affected RFM | Revision with correct charts
S92A-RFM-002 | Revision 8.
S92A-RFM-003 | Revision 7.
S92A-RFM-004 | Revision 6.
S92A-RFM-005 | Revision 5.
S92A-RFM-006 | Revision 6.

Note 1: Previous RFM revisions allowed for the use of above-specification engine power margin as depicted in the circled area of Figure 1 of this AD.

(c) To request a different method of compliance or a different compliance time for this AD, follow the procedures in 14 CFR 39.19. Contact the Manager, Boston Aircraft Certification Office, FAA, Attn: John Coffey Aviation Safety Engineer, 12 New England Executive Park, Burlington, MA 01803, telephone (781) 238-7173, fax (781) 238-7170, for information about previously approved alternative methods of compliance.

(d) The Joint Aircraft System/Component (JASC) Code is 7200: Engine (Turbine/Turboprop).

Issued in Fort Worth, Texas, on October 7, 2011.
Lance T. Gant,
Acting Manager, Rotorcraft Directorate, Aircraft Certification Service.

[FR Doc. 2011-27670 Filed 10-25-11; 8:45 am]

BILLING CODE 4910-13-P